DEPARTMENT OF HEALTH AND HUMAN SERVICES

Administration for Children and Families

Proposed Information Collection Activity; Comment Request

Title: Administration for Native Americans Annual Data Collection.

OMB No.: New.

Description: Content and formatting changes are being made to the Objective Progress Report (OPR). Content changes are being made to the OPR, now known as the Annual Data Collection (ADC) previously approved under information collection OMB No. 0980-0204. ANA has determined that the requirement for ANA grantees to submit information about the project activities on quarterly basis creates undue burden for Grantees. Therefore, ANA has reformatted the OPR to require Grantees submit and annual report instead of quarterly report when reporting on partnerships, youth and elder engagement, impact indicators, community involvement etc. This will reduce the administrative burden on Grantees, especially the smaller organizations. The majority of content being requested from the grantees essentially remain same except for the frequency of reporting. The other sections of the document with reference to “quarterly” information will be changed to reflect the shift from four-times a year reporting requirement to once per year and once at the end of the project period.

Respondents: Tribal Government, Native non-profit organizations, Tribal Colleges & Universities receiving ANA funding.

The following is the hour of burden estimate for this information collection:

Instrument | Number of respondents | Number of responses per respondent | Average burden hours per response | Total burden hours
ADC | 275 | 1 | 1 | 275

Estimated Total Annual Burden Hours: 275.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) The accuracy of the agency's estimate of the burden of the proposed collection of information; (b) the quality, utility, and clarity of the information to be collected; and (c) ways to minimize the burden of the collection of information on respondents, including through the use of automated collection techniques or other forms of information technology. Consideration will be given to comments and suggestions submitted within 60 days of this publication.

Robert Sargis,
Reports Clearance Officer.

[FR Doc. 2015-20703 Filed 8-20-15; 8:45 am]

BILLING CODE P